NATIONAL ARCHIVES AND RECORDS ADMINISTRATION

[NARA-2018-035]

Meeting of the Advisory Committee on Presidential Library-Foundation Partnerships

AGENCY: National Archives and Records Administration (NARA).

ACTION: Notice of Advisory Committee meeting.

SUMMARY: In accordance with the Federal Advisory Committee Act, as amended (5 U.S.C. appendix 2), the National Archives and Records Administration (NARA) announces a meeting of the Advisory Committee on Presidential Library-Foundation Partnerships.

DATES: The meeting will be on Thursday, May 3, 2018, from 10 a.m. to 12 noon, EST.

ADDRESSES: National Archives Building at 700 Pennsylvania Avenue NW; Washington, DC; Room 105.

FOR FURTHER INFORMATION CONTACT: Denise LeBeck by phone at 301-837-3250 or by email at denise.lebeck@nara.gov.

SUPPLEMENTARY INFORMATION: The purpose of this meeting is to discuss the Presidential library program and topics related to public-private partnerships between Presidential libraries and Presidential foundations.

The meeting will be open to the public. However, due to space limitations and access procedures, you must submit the name and telephone number of individuals planning to attend to Denise LeBeck no later than Monday, May 1, 2018. We will provide additional instructions for gaining access. Meeting attendees may enter from Pennsylvania Avenue entrance and photo identification will be required. No visitor parking is available at the Archives building; however there are commercial parking lots and metered curb parking nearby.

Patrice Murray,
Alternate Committee Management Officer.

[FR Doc. 2018-08315 Filed 4-19-18; 8:45 am]

BILLING CODE 7515-01-P